OFFICE OF MANAGEMENT AND BUDGET

Office of Federal Procurement Policy

DEPARTMENT OF DEFENSE

GENERAL SERVICES ADMINISTRATION

NATIONAL AERONAUTICS AND SPACE ADMINISTRATION

[OMB Control No. 9000-0024; Docket No. 2025-0054; Sequence No. 1]

Submission for OMB Review; Buy American, Trade Agreements, and Duty-Free Entry

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding Buy American, trade agreements, and duty-free entry.

DATES: Submit comments on or before March 25, 2026.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0024, Buy American, Trade Agreements, and Duty-Free Entry.

B. Need and Uses

This clearance covers the information that an offeror must submit in response to the requirements of the provisions and clauses in the Federal Acquisition Regulation (FAR) part 25, as codified in Chapter 1 of Title 48 of the Code of Federal Regulations, that relates to the following:

* The Buy American statute (41 U.S.C. chapter 83) and Executive Orders 10582 and 14005.

* The Trade Agreements Act (19 U.S.C. 2501-2515), including the World Trade Organization Government Procurement Agreement and various free trade agreements.

* The American Recovery and Reinvestment Act of 2009 (Pub. L. 111-5) (Recovery Act).

* Subchapters VIII and X of Chapter 98 of the Harmonized Tariff Schedule of the United States (19 U.S.C. 1202).

FAR 52.225-2, Buy American Certificate. This provision requires the offeror to identify in its proposal supplies that do not meet the definition of domestic end product and whether those supplies exceed 55% domestic content. This provision also requires offerors to identify in its proposal domestic end products that contain a critical component.

FAR 52.225-4, Buy American—Free Trade Agreements—Israeli Trade Act Certificate. This provision requires a separate list of foreign products that are eligible under a trade agreement, and a list of all other foreign end products and whether those supplies exceed 55% domestic content. This provision also requires offerors to identify in its proposal domestic end products that contain a critical component.

FAR 52.225-6, Trade Agreements Certificate. This provision requires the offeror to certify that all end products are either U.S.-made or designated country end products, except as listed in paragraph (b) of the provision. Offerors are not allowed to provide other than a U.S.-made or designated country end product, unless the requirement is waived.

FAR 52.225-8, Duty-Free Entry. This clause requires contractors to notify the contracting officer when they purchase foreign supplies, in order to determine whether the supplies should be duty-free. The notice shall identify the foreign supplies, estimate the amount of duty, and the country of origin. The contractor is not required to identify foreign supplies that are identical in nature to items purchased by the contractor or any subcontractor in connection with its commercial business, and segregation of these supplies to ensure use only on Government contracts containing duty-free entry provisions is not economical or feasible. In addition, all shipping documents and containers must specify certain information to assure the duty-free entry of the supplies.

Construction provisions and clauses:

• FAR 52.225-9, Buy American—Construction Materials

• FAR 52.225-10, Notice of Buy American Requirement—Construction Materials

• FAR 52.225-11, Buy American-Construction Materials Under Trade Agreements

• FAR 52.225-12, Notice of Buy American Requirement—Construction Materials under Trade Agreements

• FAR 52.225-21, Required Use of American Iron, Steel, and Manufactured Goods—Buy American Statute—Construction Materials

• FAR 52.225-23, Required Use of American Iron, Steel, and Manufactured Goods—Buy American Statute—

Construction Materials Under Trade Agreements

The listed provisions and clauses provide that an offeror or contractor requesting to use foreign construction material due to unreasonable cost of domestic construction material shall provide adequate information to permit evaluation of the request.

For supplies acquisitions, the contracting officer uses some of the information to identify the offered items that comply with the requirements of the Buy American statute and trade agreements and whether the supplies should be granted duty-free entry. For construction acquisitions, the contracting officer uses the information to evaluate requests for a determination of inapplicability of the Buy American statute.

C. Annual Burden

Respondents: 9,279.

Total Annual Responses: 34,535.

Total Burden Hours: 29,138.

D. Public Comment

A 60-day notice was published in the Federal Register at 90 FR 57468, on December 11, 2025. Comments were received from three respondents; however, they did not change the estimate of the burden.

Summary of comments: The respondents generally support the extension. A respondent noted that blank certifications in FAR 52.225-2, 52.225-4, and 52.225-6 are often misconstrued as full compliance, risking violations of domestic preference policies, trade obligations, and acquisition integrity due to absent origin/content details. The respondent recommended replacing blank submissions with a “No Exceptions” checkbox, requiring offerors to certify 100% U.S.-made or designated country end products.

Other respondents noted the administrative burden of compliance is underestimated and it disproportionately impacts smaller businesses. These respondents expressed concern over the complexity of the policies, which increase costs and the risk of non-compliance. These respondents recommended the following:

• Update burden estimates to reflect new thresholds, multi-tier supply chain documentation, proportionality for small businesses, and costly internal legal or compliance review needed to manage risk, recognizing the cumulative paperwork impact.

• Improve processes by eliminating duplicative clauses and overlapping disclosure requirements, providing clearer and more consistent definitions, and reforming class waivers just to name a few.

• Adopt standardized governmentwide Buy American certifications and tools, and implement tiered, risk-based reporting thresholds to replace the one-size-fits-all approach.

Response: The FAR Council acknowledges the comments received. Regarding the comments addressing burden, the respondents did not identify the alleged duplicative clauses or overlapping disclosure requirements. While the Government lacks a system to determine the actual number of instances when each information collection is submitted or used, the PRA impact, including the effect on small businesses, is thoroughly addressed during rulemaking processes when collections are established or revised. Regarding the comments addressing the merits of the clauses, those issues are beyond the scope of the information collection requirements, but respondents will have the opportunity to provide feedback when proposed changes to FAR Part 25 are published for comment as part of FAR Case 2026-004, Revolutionary Federal Acquisition Regulation Overhaul parts 19, 22, 23, and 25.

Obtaining Copies: Requesters may obtain a copy of the information collection documents from the GSA Regulatory Secretariat Division by calling 202-501-4755 or emailing GSARegSec@gsa.gov. Please cite OMB Control No. 9000-0024, Buy American, Trade Agreements, and Duty-Free Entry.

Janet Fry,
Director, Federal Acquisition Policy Division, Office of Governmentwide Acquisition Policy, Office of Acquisition Policy, Office of Governmentwide Policy.

[FR Doc. 2026-03509 Filed 2-20-26; 8:45 am]

BILLING CODE 6820-EP-P